DEPARTMENT OF ENERGY

Federal Energy Regulatory Commission

[Project No. 2165-022]

Alabama Power Company; Notice of Application Tendered for Filing With the Commission, and Establishing Procedural Schedule for Relicensing and a Deadline for Submission of Final Amendments

August 11, 2005.

Take notice that the following hydroelectric application has been filed with the Commission and is available for public inspection.

a. Type of Application: New Major License.

b. Project No.: P-2165-022.

c. Date Filed: July 28, 2005.

d. Applicant: Alabama Power Company.

e. Name of Project: Warrior River Hydroelectric Project, which includes the Lewis Smith and Bankhead Developments.

f. Location: The Lewis Smith development is located in northwestern Alabama in the headwaters of the Black Warrior River on the Sipsey Fork in Cullman, Walker, and Winston Counties. The Bankhead development is located in central Alabama downstream of the Lewis Smith development, on the Black Warrior River in Tuscaloosa County. The Lewis Smith development affects 2691.44 acres of federal lands and the Bankhead development affects 18.7 acres of Federal lands.

g. Filed Pursuant to: Federal Power Act 16 U.S.C. 791 (a)-825(r).

h. Applicant Contact: Mr. Jerry L. Stewart, Senior Vice President and Senior Production Officer, Alabama Power Company, 600 North 18th Street, P.O. Box 2641, Birmingham, AL 35291-8180.

i. FERC Contact: Janet Hutzel, (202) 502-8675 or janet.hutzel@ferc.gov.

j. Cooperating agencies: We are asking Federal, State, local, and tribal agencies with jurisdiction and/or special expertise with respect to environmental issues to cooperate with us in the preparation of the environmental document. Agencies who would like to request cooperating status should follow the instructions for filing such requests described in item k below.

k. Deadline for request for cooperating agency status: September 26, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Requests for cooperating agency status may be filed electronically via the Internet in lieu of paper. The Commission strongly encourages electronic filings. See 18 CFR 385.2001(a)(1)(iii) and the instructions on the Commission's Web site (http://www.ferc.gov) under the “e-Filing” link. The Commission strongly encourages electronic filing.

l. This application has not been accepted for filing. We are not soliciting motions to intervene, protests, or final terms and conditions at this time.

m. Description of Project: The proposed Warrior River Project would consist of two developments. The Lewis Smith and Bulkhead developments would operate in peaking mode. The total capacity for all developments is 211.05 MW, generating about 463,094 MWh of energy annually. The project works would include the following:

Lewis Smith Development: The Lewis Smith development, located on the Sipsey Fork of the Black Warrior River, consists of: (1) A total of 2,200 feet of water retaining structures which includes a 300-foot-high earth and rock fill dam, an uncontrolled spillway with fixed crest elevation 522 feet m.s.l., and powerhouse consisting of: (a) A 95-foot-long uncontrolled spillway, (b) a 350-foot-wide channel which originates at the spillway and discharges into Mill creek about 3,000 feet downstream of the spillway, (c) a concrete intake located 120 feet upstream of the dam which provides flows to two 23-foot-diameter, 630-foot-long power tunnels; (2) a 35-mile-long, 21,200-acre reservoir at normal pool elevation 510 feet m.s.l., and capacity of 1,390,000 acre-ft at normal pool elevation 510 feet m.s.l. and 1,670,600 acre-feet at spillway crest elevation 522-ft m.s.l; (3) a 193-foot-long concrete power house, housing two 111,500 horse power vertical fixed-blade turbines and generating units, each rated at 78.75 MW, a total rated capacity of 157.5 MW, maximum hydraulic capacity of 5,700 cfs each, and total hydraulic capacity of 11,400 cfs. The estimated generation is 282,864 MWh.; (4) trashracks located at the turbine intakes with 6-inch bar spacing; (5) a substation; and (6) other appurtenances. One 115-kilovolt transmission line, and two 161-kilovolt transmission lines connect substations to Alabama Power's transmission system.

Bankhead Development: The Bankhead development is located at the U.S. Army Corps of Engineers (Corps) Lock and Dam No. 17 on the Black Warrior River. The dam, a 1,230-foot-long gated spillway, and 78-mile-long reservoir are owned and operated by the Corps. The Bankhead development consists of a powerhouse and intake canal consisting of: (1) A 54-foot-wide by 100-foot-long gated intake canal; (2) a 135-foot-long powerhouse housing one 71,400 horse power vertical propeller turbine and generating unit, rated at 53.985 MW, and a maximum hydraulic capacity of 10,388 cfs. The estimated generation is 180,230 MWh; (3) thirty-five trashracks located at the turbine intakes with 6-inch bar spacing; (4) penstocks; (5) a substation; and (6) other appurtenances. One 115-kilovolt transmission line connects the substation to Alabama Power's transmission system.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

o. Procedural schedule and final amendments: At this time we do not anticipate the need for preparing a draft environmental assessment (EA). Recipients will have 60 days to provide the Commission with any written comments on the EA. All comments filed with the Commission will be considered in the Order taking final action on the license applications. However, should substantive comments requiring re-analysis be received on the EA document, we would consider preparing a subsequent EA document. The application will be processed according to the following Hydro Licensing Schedule. Revisions to the schedule will be made as appropriate.

Issue acceptance letter or deficiency letter and request additional information, if needed: September 2005.

Notice soliciting final terms and conditions: December 2005.

Notice of the availability of the EA: July 2006.

Ready for Commission's decision on the application: November 2006.

Final amendments to the application must be filed with the Commission no later than 30 days from the issuance date of the notice of ready for environmental analysis.

Linda Mitry,
Deputy Secretary.

[FR Doc. E5-4472 Filed 8-16-05; 8:45 am]

BILLING CODE 6717-01-P